POSTAL SERVICE

Change to the Retirement Plan for Manually Set Postage Meters

AGENCY: Postal Service.

ACTION: Notice of change to the Retirement Plan for Manually Set Postage Meters.

SUMMARY: By this notice, the Postal Service™ revises the Retirement Plan for Manually Set Postage Meters, published in the Federal Register on December 13, 2000, pages 77934-77938, for meters with lease expiration dates on or after October 1, 2004. The retirement date for these manually set electronic meters will be May 31, 2005. The Postal Service will no longer reset electronic manually set meters after February 28, 2005.

DATES: This notice is effective on October 4, 2004.

FOR FURTHER INFORMATION CONTACT: Wayne A. Wilkerson, manager of Postage Technology Management, at (703) 292-3691 or by fax at (703) 292-4073.

SUPPLEMENTARY INFORMATION: A notice was published in the Federal Register on June 15, 2004, pages 33429-33430, with comments due on or before July 15, 2004. Written comments were received from the vendor community. There was no opposition to the proposal to retire all manually set electronic meters from service by May 31, 2005.

An exception was taken to the proposed restriction on replacing a malfunctioning manually set meter with a functional meter of the same model. The Postal Service reconsidered its proposal and removed this restriction. Replacement meters will be permitted up to February 28, 2005.

You can review the comments received by submitting a request to the office of Postage Technology Management at (703) 292-3691 or by fax at (703) 292-4073.

The final plan follows.

The Revised Plan For Manually Set Postage Meters

The Postal Service retirement date for manually set electronic meters with lease expiration dates on or after October 1, 2004, will be May 31, 2005. The Postal Service will no longer reset electronic manually set meters after February 28, 2005. Anyone in possession of a manually set meter must return it to the meter provider on or before May 31, 2005. The meter provider will withdraw the meter from service.

Any manually set electronic postage meter that is capable of remote meter setting must be either converted to remote meter setting or retired from service and returned to the meter provider. The function that allows manual setting must be disabled.

The manager of Postage Technology Management, Postal Service Headquarters, will send official notification to those affected users with an explanation of this plan. Any other explanation received by users may not accurately represent the position of the Postal Service.

Stanley F. Mires,
Chief Counsel, Legislative.

[FR Doc. 04-22232 Filed 10-1-04; 8:45 am]

BILLING CODE 7710-12-P